Title 3—

The President

Proclamation 9300 of July 17, 2015

Captive Nations Week, 2015

By the President of the United States of America

A Proclamation

America was founded on the beliefs that the true source of legitimacy is the consent of the people; that every individual is born equal with inalienable rights; and that it is the responsibility of governments to uphold these rights. For more than two centuries, the United States has worked to give meaning to these fundamental tenets of freedom and democracy, and as we have striven to realize the promise of our Nation and cement our reputation as a beacon of opportunity throughout the world, we have also fought to expand democracy's reach—because we believe that self-determination is not just a Western value but a universal value, and that all people in all nations have the right to choose their own destiny.

When an Iron Curtain descended on women and men around the globe, America stood with those who held fast to democratic ideals. We fought to defend the inherent dignity of all people and our shared commitment to the values we cherish, and together we demonstrated to the world that tyranny and oppression are no match for the force of freedom. Decades later, upholding peace and security continues to be the responsibility of every nation. During Captive Nations Week, we stand in solidarity with those who still yearn for a stake in their future, and we renew our commitment to advancing freedom's cause.

Today, countries once ravaged by war are among the world's most advanced economies, dictatorships have given way to genuine democracies, and hundreds of millions of people have been lifted from poverty. Yet history reminds us that free nations cannot be complacent in pursuit of the vision we share. Around the globe, disputes over territory threaten to spiral into confrontation. The failure to uphold universal human rights denies justice to individuals and denies countries of reaching their full potential. The same technologies that empower citizens are also giving oppressive regimes new tools to stifle dissent. And economic inequality and extreme poverty are laying the foundation for instability.

The United States will continue to use every element of American power to bolster democracies throughout the world and support economic reforms that boost domestic demand, deliver broad prosperity, and invest in people. We are expanding our cooperation with emerging powers and economies and working to cultivate civil societies that hold leaders accountable—because governments exist to lift their people up, not to hold them down. And I continue to call for open and honest elections, and independent judiciaries that work to strengthen the rule of law.

True democracy, real prosperity, and lasting security are neither given nor imposed from the outside; they must be earned and built from within and renewed by every generation. Today, we rededicate ourselves to this important task and to the promise that wherever people are willing to do the hard work of building a democracy—wherever the longing for freedom stirs in human hearts—they will find a partner in the United States of America.

The Congress, by joint resolution approved July 17, 1959 (73 Stat. 212), has authorized and requested the President to issue a proclamation designating the third week of July of each year as “Captive Nations Week.”

NOW, THEREFORE, I, BARACK OBAMA, President of the United States of America, do hereby proclaim July 19 through July 25, 2015, as Captive Nations Week. I call upon the people of the United States to reaffirm our deep ties to all governments and people committed to freedom, dignity, and opportunity for all.

IN WITNESS WHEREOF, I have hereunto set my hand this seventeenth day of July, in the year of our Lord two thousand fifteen, and of the Independence of the United States of America the two hundred and fortieth.

[FR Doc. 2015-18095

Filed 7-21-15; 8:45 am]

Billing code 3295-F5